DEPARTMENT OF HEALTH AND HUMAN SERVICES

Administrative for Children and Families

Submission for OMB Review; Comment Request

Title: 45 CFR 1302 Head Start Grants Administration.

OMB No.: 0980-0243.

Description: 45 CFR contains provisions applicable to program administration and grants administration under the Head Start Act, as amended. The provisions specify the requirements for grantee agencies for insurance, bonding, the submission of audits, matching of federal funds, accounting systems certifications and other provisions applicable to personnel administration.

Respondents: Head Start and Early Start grantees.

Annual Burden Estimates
Instrument | Number of respondents | Number of responses per respondent | Average burden hours per response | Total burden hours
45 CFR Part 1301 | 2500 | 2 | 2 | 5,000

Estimated Total Annual Burden Hours: 5,000.

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: November 25, 2002.
Robert Sargis,
Reports Clearance Officer.

[FR Doc. 02-30646 Filed 12-2-02; 8:45 am]

BILLING CODE 4184-01-M